DEPARTMENT OF EDUCATION

Notice of Proposed Information Collection Requests

AGENCY: Department of Education.

ACTION: Comment request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before September 20, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: July 18, 2011.
Darrin A. King,
Director, Information Collection Clearance Division, Regulatory Information Management Services, Office of Management.

Institute of Education Sciences

Type of Review: Revision.

Title of Collection: National Longitudinal Transition Study 2012.

OMB Control Number: 1850-0882.

Agency Form Number(s): N/A.

Frequency of Responses: Once.

Affected Public: Individuals or Households.

Total Estimated Number of Annual Responses: 75,600.

Total Estimated Number of Annual Burden Hours: 32,040.

Abstract: To gauge progress in addressing the needs of youth with disabilities, the U.S. Department of Education is sponsoring a five-year longitudinal study focused on the educational and transitional experiences of youth between the ages of 13 and 21 in December 2011. The study focuses on three sets of research questions: What are the characteristics of youth with disabilities? What services and accommodations do they receive and what are their courses of study? What are their transitional experiences as they leave high school and their educational, social, and economic outcomes?

The study will compare this group with three other groups: (1) Youth who have no identified disability, (2) youth who do not have an individualized education plan (IEP) but who have a condition that qualifies them for accommodation under Section 504 of the Vocational Rehabilitation Act of 1973, and (3) similar cohorts of youth with an IEP who were studied in the past.

Districts and youth will be randomly selected to ensure that they are nationally representative. The study sample will include approximately 500 school districts and 15,000 students. Phase I data collection will occur in spring 2012 and spring 2014, when sample members will be ages 13-21 and 15-23, respectively. The study will collect data from parents, youth, principals, teachers, and student school records.

Copies of the proposed information collection request may be accessed from http://edicsweb.ed.gov, by selecting the “Browse Pending Collections” link and by clicking on link number 4673. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2011-18519 Filed 7-21-11; 8:45 am]

BILLING CODE 4000-01-P